DEPARTMENT OF VETERANS AFFAIRS

[OMB Control No. 2900-0463]

Agency Information Collection Activity Under OMB Review: Notice of Waiver of VA Compensation or Pension To Receive Military Pay and Allowances

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by December 22, 2025.

ADDRESSES: To submit comments and recommendations for the proposed information collection, please type the following link into your browser: www.reginfo.gov/public/do/PRAMain, select “Currently under Review—Open for Public Comments”, then search the list for the information collection by Title or “OMB Control No. 2900-0463.”

FOR FURTHER INFORMATION CONTACT: VA PRA information: Dorothy Glasgow, 202-461-1084, VAPRA@va.gov.

SUPPLEMENTARY INFORMATION:

Title: Notice of Waiver of VA Compensation or Pension to Receive Military Pay and Allowances (VA Form 21-8951-2).

OMB Control Number: 2900-0463. https://www.reginfo.gov/public/do/PRASearch.

Type of Review: Revision of a currently approved collection.

Abstract: VA Form 21-8951-2 is used by reservists/guardsmen filing a waiver of VA disability benefits to receive active or inactive duty training pay or to notify VA to resume benefits as his/her active service has completed. Without this information, the reduction in overpayments and/or erroneous payments associated with receipt of VA disability compensation or pension could cause hardship on behalf of the claimant.

An agency may not conduct or sponsor, and a person is not required to respond to a collection of information unless it displays a currently valid OMB control number. The Federal Register Notice with a 60-day comment period soliciting comments on this collection of information was published at [insert citation date]: 90 FR 44478, September 15, 2025.

Affected Public: Individuals or Households.

Estimated Annual Burden: 5,766 hours.

Estimated Average Burden per Respondent: 10 minutes.

Frequency of Response: One time.

Estimated Number of Respondents: 34,594 per year.

Authority: 44 U.S.C. 3501 et seq.

Shunda Willis,
Acting, VA PRA Clearance Officer, (Alt.) Office of Information Technology, Department of Veterans Affairs.

[FR Doc. 2025-20351 Filed 11-19-25; 8:45 am]

BILLING CODE 8320-01-P